DEPARTMENT OF HEALTH AND HUMAN SERVICES

Administration for Children and Families

Office of Refugee Resettlement; Statement of Organization, Functions, and Delegations of Authority.

AGENCY: Administration for Children and Families, HHS.

ACTION: Notice.

SUMMARY: Statement of Organization, Functions, and Delegations of Authority

The Administration for Children and Families (ACF) has reorganized the Office of Refugee Resettlement (ORR). This notice announces a realignment of functions to create a Division of Policy within the Office of the Director in ORR. This realignment of functions within ORR serves to coordinate and centralize the policy function within ORR to provide for policy uniformity and consistency, allow greater staff flexibility, and better reflect the current work environment and priorities within ORR. The statement of organization, functions, and delegations of authority conforms to and carries out the statutory requirements for operating ORR.

This notice amends Part K of the Statement of Mission, Organization, Functions, and Delegations of Authority of the Department of Health and Human Services (HHS), ACF as follows: Chapter KR, ORR (76 FR 70149-70150), as last amended November 10, 2011.

I. Under Chapter KR, ORR, delete KR.10 Organization, in its entirety and replace with the following:

KR.10 Organization. ORR is headed by a Director, who reports to the Assistant Secretary for Children and Families. The Office is organized as follows:

Office of the Director (KRA)

Division of Policy (KRA1)

Division of Refugee Assistance (KRE)

Division of Refugee Services (KRF)

Division of Children's Services (KRH)

Division of Anti-Trafficking in Persons (KRI)

Division of Refugee Health (KRJ)

II. Under Chapter KR, ORR, delete KR.20 Functions, in its entirety and replace with the following:

KR.20 Functions.

A. The Office of the Director is directly responsible to the Assistant Secretary for Children and Families for carrying out ORR's mission and providing guidance and general supervision to the components of ORR. The office provides direction in the development of general supervision to the components of ORR. The office provides direction in the development of program policy and budget and in the formulation of salaries and expense budgets. Staff also provide administrative and personnel support services.

The Office of the Director coordinates with the lead refugee and entrant program offices of other federal departments; provides leadership in representing refugee and entrant programs, policies, and administration to a variety of governmental entities and other public and private interests; and acts as the coordinator of the total refugee and entrant resettlement effort for ACF and the Department. The office oversees the care and custody of unaccompanied alien children, grants specific consent for those who wish to invoke the jurisdiction of a state court for a dependency order to seek Special Immigrant Juvenile status, and makes determinations of eligibility for the Unaccompanied Refugee Minors Program.

The Office of the Director prepares annual budget estimates and related materials; and develops regulations, legislative proposals, and routine interpretations of policy as they relate to each of the program areas. The office performs allocation and tracking of funds for all programs. The office collects data and performs analysis on the changing needs of the refugee and entrant population, provides leadership to identify data needs and sources, and formulates data and reporting requirements.

Within the Office of the Director, the Division of Policy is comprised of a Director of Policy and professional staff with expertise in all areas of ORR programming, including staff that handle high profile projects or multi-program functions. The Division of Policy assesses and evaluates ORR programs and their legal authorities and proactively recommends policy development, regulation updates and changes, and operational and management actions to comply with statutory parameters. The division advises the ORR Director, deputies, division directors, and regional staff on a wide range of significant and sensitive policy-related matters and strategies for attaining ORR policy objectives. The division identifies major emerging policy issues, develops policy options and strategies, and implements policy initiatives, including the drafting of policies, guidance, and regulations. The Division of Policy also leads the office in the development of strategic goals and objectives and ensures that policies and operational and management activities are designed to achieve ORR, ACF, and Department goals.

The Division of Policy develops clearance and informational memoranda, briefing materials, and summary statements for ORR, ACF, and Department leadership on complex and sensitive ORR matters. The division collaborates with the ORR operating divisions and regional staff to clarify and enhance existing policies and guidance, particularly in areas where the work of two or more divisions and the regions overlap.

The Division of Policy serves as the ORR point of contact for other ACF and HHS offices related to legal, congressional, and evaluation issues, such as the Office of the General Counsel, Office of Legislative Affairs and Budget, Government Accountability Office, and Office of Inspector General. The division represents ORR on interagency working groups and collaborates with both government and private sector leaders on ORR policy-related issues and developments.

Within the Office of the Director, the Deputy Director assumes the Director's responsibilities in the absence of the Director and provides oversight to the Division of Refugee Health, Division of Refugee Services, and the Division of Refugee Assistance.

The Associate Deputy Director provides oversight to the Division of Children's Services and the Division of Anti-Trafficking in Persons.

B. The Division of Refugee Assistance represents ORR in coordinating services and capacity for refugees in a manner that helps refugees become employed and economically self-sufficient soon after their arrival in the United States. The division monitors and provides technical assistance to the state-administered domestic assistance programs and Wilson/Fish projects. The Division works closely with each state in designing a resettlement program specific to the needs of incoming populations. The division develops guidance and procedures for their implementation and manages special initiatives to increase refugee self-sufficiency, such as through state-funded discretionary grants or pilot programs. The division also assists public and private agencies on data reporting and the resolution of reporting problems. The division develops and supports the flow of information on refugee profiles and community resources in support of effective placement at the state and local level. The division works closely with the Department of State to ensure effective and seamless orientation from overseas to local resettlement community. The division manages the effective allocation of formula social services and targeted assistance in support of newly arriving populations. The division tracks all state costs related to refugee assistance.

C. The Division of Refugee Services directs and manages effective refugee resettlement through the programmatic implementation of grants, contracts, and special initiatives, such as the Matching Grant Program. The division oversees and monitors most ORR discretionary grants, recommends grantee allocation, coordinates with the grants management office to review the financial expenditures under discretionary grant programs, provides data in support of apportionment requests, and provides technical assistance on discretionary grants operations. The division coordinates and provides liaison with the Department and other federal agencies on discretionary grant operational issues and other activities as specified by the Director or required by congressional mandate. The division responds to unanticipated refugee and entrant arrivals or significant increases in arrivals to communities where adequate or appropriate services do not exist through supplemental initiatives. The division works to promote economic independence among refugees through social services, educational services, and intensive case management and community development initiatives.

D. The Division of Children's Services supports services to unaccompanied children who are referred to ORR for care as refugees, asylees, Cuban and Haitian entrants, children granted Special Immigrant Juvenile Visas and those pending immigration status, or identified as victims of trafficking. The division implements intake and placement decisions for all unaccompanied refugee and alien children. The division supports specialized care through grants, contracts, and state-administered unaccompanied minors programs. The division conducts monitoring and inspections of facilities and placement locations in which unaccompanied children reside. The division also maintains statistical information and data on each child and any actions concerning the child while the child is under the Director's care.

The division ensures consideration of the child's best interest in care and custody decisions. The division coordinates all decisions related to sponsor reunification, background checks, home assessments, follow-up services, medical assessment and treatment, sponsorship breakdowns, repatriation, and movement of children into the Unaccompanied Refugee Minors Program.

The division develops policy to ensure all children's programs are administered in a manner that ensures the best interest of the child; and that services are administered in a manner that supports child welfare standards of care and services to include training, accreditation, legal services, assessment, and trauma-related initiatives.

The division administers the pro bono legal services and child advocate program and compiles a state-by-state list of professionals or entities qualified to provide the children with a guardian and attorney representational services.

E. The Division of Anti-Trafficking in Persons is responsible for implementing certain provisions of the Trafficking Victims Protection Act. The division coordinates the certification of and services to victims of severe forms of trafficking, promotes public awareness on human trafficking, and increases identification of potential victims of severe forms of trafficking. The division manages these activities through grants and contracts. It also coordinates with other federal government agencies on certification activities and policy issues related to the trafficking laws. The division certifies victims of severe forms of trafficking following consultation with appropriate federal and state government agencies and social service agencies. The division coordinates with the appropriate entities for the determination and placement of identified and certified unaccompanied minor victims of trafficking. It maintains statistical information and data on each victim, including certification documentation and services provided. The division compiles an annual report, in coordination with other federal agencies, on the number of certifications issued to and services accessed by identified victims.

F. The Division of Refugee Health provides direction for assuring that refugees are provided medical assistance and mental health services through the state-administered program and alternative programs such as the Wilson/Fish projects. The division ensures the quality of medical screening and initial medical treatment of refugees through its administration of grant programs, technical assistance, and interagency agreements in support of comprehensive medical and mental health services. The division supports coordination of services to refugees under the Affordable Care Act. The division also supports mental health services to victims of torture.

The Division works closely with State Refugee Health Coordinators in the planning and provision of medical and mental health services to meet the individual needs of incoming populations. The division tracks all state costs related to refugee medical assistance and screening.

FOR FURTHER INFORMATION CONTACT: Eskinder Negash, Director, Office of Refugee Resettlement, Administration for Children and Families, 901 D Street SW., Washington, DC 20447, (202) 401-9246.

Dated: January 15, 2015.
Mark Greenberg,
Acting Assistant Secretary for Children and Families.

[FR Doc. 2015-01125 Filed 1-22-15; 8:45 am]

BILLING CODE 4120-27-P